DEPARTMENT OF LABOR

Employment and Training Administration

[TA-W-71,263]

Chrysler Group LLC, Formerly Known as Chrysler LLC; Belvidere Assembly Plant: Including On-Site Leased Workers From Aerotek, G Tech Services, Inc., and Tri-Dim Filer Corp. Belvidere, IL; Amended Certification Regarding Eligibility To Apply for Worker Adjustment Assistance

In accordance with Section 223 of the Trade Act of 1974, as amended (“Act”), 19 U.S.C. 2273, the Department of Labor issued a Certification of Eligibility to Apply for Worker Adjustment Assistance on September 8, 2009, applicable to workers of Chrysler Group LLC, formerly known as Chrysler LLC, Belvidere Assembly Plant, include on-site leased workers from Aerotek and G Tech Services, Inc., Belvidere, Illinois. The notice was published in the Federal Register on November 5, 2009 (74 FR 57337).

At the request of the State Agency, the Department reviewed the certification for workers of the subject firm. The workers are engaged in activities related to the assembly the Dodge Caliber, Jeep Compass and Jeep Patriot.

The company reports that on-site leased workers from TRI-DIM Filer Corp. were employed on-site at the Belvidere, Illinois location of Chrysler Group LLC, formerly known as Chrysler LLC, Belvidere Assembly Plant. The Department has determined that these workers were sufficiently under the control of the subject firm to be considered leased workers.

Based on these findings, the Department is amending this certification to include workers leased from TRI-DIM Filer Corp working on-site at the Belvidere, Illinois location of Chrysler Group LLC, formerly known as Chrysler LLC, Belvidere Assembly Plant.

The amended notice applicable to TA-W-71,263 is hereby issued as follows:

All workers of Chrysler Group LLC, formerly known as Chrysler LLC, Belvidere Assembly Plant, including on-site leased workers from Aerotek, G Tech Services, Inc., and TRI-DIM Filer Corp, Belvidere, Illinois, who became totally or partially separated from employment on or after June 16, 2008, through September 8, 2011, and all workers in the group threatened with total or partial separation from employment on date of certification through two years from the date of certification, are eligible to apply for adjustment assistance under Chapter 2 of Title II of the Trade Act of 1974, as amended.

Signed in Washington, DC, this 15th day of April 2010.
Richard Church,
Certifying Officer, Division of Trade Adjustment Assistance.

[FR Doc. 2010-9486 Filed 4-22-10; 8:45 am]

BILLING CODE 4510-FN-P